DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 18, 2007.

Interested persons are invited to submit written comments regarding the subject matter of the investigations to the Director, Division of Trade Adjustment Assistance, at the address shown below, not later than June 18, 2007.

The petitions filed in this case are available for inspection at the Office of the Director, Division of Trade Adjustment Assistance, Employment and Training Administration, U.S. Department of Labor, Room C-5311, 200 Constitution Avenue, NW., Washington, DC 20210.

Signed at Washington, DC, this 31st day of May 2007.
Linda G. Poole,
Certifying Officer, Division of Trade Adjustment Assistance.

Appendix-AA
[Petitions instituted between 5/21/07 and 5/25/07]
TA-W | Subject firm (petitioners) | Location | Date of institution | Date of petition
61544 | Bodiform, Inc. (Wkrs) | Hialeah, FL | 05/21/07 | 05/16/07
61545 | Bell Sponging Company, Inc. (UNITE) | Allentown, PA | 05/21/07 | 05/18/07
61546 | Sportable Scoreboards (Wkrs) | Murray, KY | 05/21/07 | 05/18/07
61547 | McMurray Fabrics, Inc. (Wkrs) | Lincolnton, NC | 05/21/07 | 05/16/07
61548 | CS Tool Engineering (Comp) | Cedar Springs, MI | 05/21/07 | 05/18/07
61549 | Molex, Inc. (State) | Downers Grove, IL | 05/21/07 | 05/17/07
61550 | Linq Industrial Fabrics, Inc. (Comp) | Summerville, SC | 05/21/07 | 04/30/07
61551 | Tech-Pak, Inc. (Wkrs) | Hudson, NC | 05/21/07 | 05/17/07
61552 | Hershey Chocolate and Confectionary Corp. (State) | Oakdale, CA | 05/22/07 | 05/21/07
61553 | Honeywell Resins and Chemicals (Comp) | Anderson, SC | 05/22/07 | 05/21/07
61554 | SemiTool (State) | Kalispell, MT | 05/22/07 | 05/18/07
61555 | National Braid Manufacturing Company (UNITE) | Long Island City, NY | 05/22/07 | 05/15/07
61556 | Lexington Home Brand #Plant 98 (Wkrs) | Thomasville, NC | 05/22/07 | 05/17/07
61557 | Alcoa ATS (USW) | Auburn, IN | 05/22/07 | 05/26/07
61558 | Seagate Technology, LLC (Comp) | Longmont, CO | 05/22/07 | 05/21/07
61559 | Thunder Bay Manufacturing Corporation (Comp) | Alpena, MI | 05/22/07 | 05/21/07
61560 | Arvin Meritor (UAW) | Heath, OH | 05/23/07 | 05/15/07
61561 | R-Tis-Tic Mold Incorporated (Comp) | St. Clair, MI | 05/23/07 | 05/16/07
61562 | Quebecor World Chicago (Union) | Elk Grove, IL | 05/23/07 | 05/15/07
61563 | Carrier Access Corporation (Wkrs) | Bethel, CT | 05/23/07 | 05/22/07
61564 | Metal Powder Products (Wkrs) | St. Mary's, PA | 05/23/07 | 05/15/07
61565 | Avon Automotive (Comp) | Manton, MI | 05/23/07 | 05/22/07
61566 | Borg-Warner (UAW) | Muncie, IN | 05/23/07 | 05/22/07
61567 | Oregon Woodworking Company (Comp) | Bend, OR | 05/23/07 | 05/21/07
61568 | Tenneco Inc., Walker Manufacturing (Comp) | Harrisonburg, VA | 05/23/07 | 05/18/07
61569 | Dura Automotive (Comp) | Milan, TN | 05/23/07 | 05/11/07
61570 | HDM Furniture Industries, Inc. (Wkrs) | High Point, NC | 05/23/07 | 05/17/07
61571 | Bristol Babcock Inc. (State) | Watertown, CT | 05/24/07 | 05/23/07
61572 | Meggit Defense Systems (State) | Minneapolis, MN | 05/24/07 | 05/23/07
61573 | MTD Southwest Inc. (Comp) | Tempe, AZ | 05/24/07 | 05/23/07
61574 | Century Truss Company (State) | Brighton, MI | 05/24/07 | 05/23/07
61575 | Herman and Company, Inc. (Wkrs) | Lebanon, PA | 05/24/07 | 05/17/07
61576 | Paper Magic Group, Inc. (Comp) | Scranton, PA | 05/24/07 | 05/17/07
61577 | J.P. Morgan Chase (Wkrs) | Belleville, MI | 05/24/07 | 05/22/07
61578 | Visteon (IUECWA) | Connersville, IN | 05/24/07 | 05/23/07
61579 | Jockey International, Inc. (Comp) | Millen, GA | 05/25/07 | 03/22/07
61580 | Comau, Inc. (Comp) | Southfield, MI | 05/25/07 | 05/24/07
61581 | Keykert USA Inc. (State) | Webberville, MI | 05/25/07 | 05/24/07
61582 | Xyratex International Ltd (Wkrs) | Scotts Valley, CA | 05/25/07 | 05/23/07
61583 | Margaret O'Leary Inc. (Wkrs) | San Francisco, CA | 05/25/07 | 05/22/07
61584 | Randstad Inhouse Services (Wkrs) | Newton, IA | 05/25/07 | 05/21/07
61585 | Hunter Douglas (aka HD Window Fashions, Inc.) (State) | Los Angeles, CA | 05/25/07 | 04/23/07
61586 | Reis Associated Co. Inc. (Comp) | Ballwin, MO | 05/25/07 | 05/15/07
61587 | Sun Spring America, Inc. (Wkrs) | Henderson, KY | 05/25/07 | 05/16/07

[FR Doc. E7-11021 Filed 6-6-07; 8:45 am]

BILLING CODE 4510-FN-P